DEPARTMENT OF TRANSPORTATION

Surface Transportation Board

[STB Ex Parte No. 519 (Sub-No. 4)]

Notice of National Grain Car Council Meeting

AGENCY: Surface Transportation Board, DOT.

ACTION: Notice of National Grain Car Council meeting.

SUMMARY: Notice is hereby given of a meeting of the National Grain Car Council (NGCC), pursuant to section 10(a)(2) of the Federal Advisory Committee Act, Pub. L. No. 92-463, as amended (5 U.S.C., App. 2).

DATES: The meeting will be held on Wednesday, June 25, 2008, beginning at 10:30 a.m. and is expected to conclude at 3:00 p.m.

ADDRESSES: The meeting will be held at the headquarters of the Surface Transportation Board, 395 E Street, SW., in Washington, DC.

FOR FURTHER INFORMATION CONTACT: Mel Clemens at (202) 245-0241 or Tom Brugman at (202) 245-0281. [Assistance for the hearing impaired is available through the Federal Information Relay Service (FIRS) at: (800) 877-8339].

SUPPLEMENTARY INFORMATION: The NGCC arose from a proceeding instituted by the Surface Transportation Board's (Board) predecessor agency, the Interstate Commerce Commission (ICC), in National Grain Car Supply—Conference of Interested Parties, Ex Parte No. 519. The NGCC was formed as a working group to facilitate private-sector solutions and recommendations to the ICC (and now the Board) on matters affecting grain transportation.

The general purpose of this meeting is to discuss rail carrier preparedness to transport the 2008 Fall grain harvest. Agenda items include the following: Remarks by Board Chairman Charles D. Nottingham, Vice Chairman Francis P. Mulvey (who serves as Co-Chairman of the NGCC), and Commissioner W. Douglas Buttrey; a presentation and discussion regarding the new centralized database (OT-5 TAG), developed by carriers to facilitate shipper requests to load and store private rail cars on carrier track; reports by rail carriers and shippers on grain-service related issues; a report by rail car manufacturers and lessors on current and future availability of various grain-car types; and an open forum on the impact of current Federal regulation on grain car supply.

The meeting, which is open to the public, will be conducted pursuant to the NGCC's charter and Board procedures. Further communications about this meeting may be announced through the Board's Web site at http://www.stb.dot.gov.

This action will not significantly affect either the quality of the human environment or the conservation of energy resources.

Dated: June 10, 2008.
Anne K. Quinlan,
Secretary.

[FR Doc. E8-12943 Filed 6-9-08; 8:45 am]

BILLING CODE 4915-01-P